NUCLEAR REGULATORY COMMISSION

10 CFR Part 72

RIN 3150-AH72

List of Approved Spent Fuel Storage Casks: Standardized NUHOMS®-24P, -52B, -61BT, -32PT, -24PHB, and -24PTH Revision; Withdrawal of Direct Final Rule

AGENCY: Nuclear Regulatory Commission.

ACTION: Direct final rule; withdrawal.

SUMMARY: The Nuclear Regulatory Commission (NRC) is withdrawing a direct final rule that would have revised the NUHOMS®-24P, -52B, -61BT, -32PT, -24PHB, and -24PTH cask system listing within the list of approved spent fuel storage casks to include Amendment No. 8 to the Certificate of Compliance (CoC). The NRC is taking this action because the NRC staff has become aware of changes in the Technical Specifications (TS) associated with this CoC. A notice withdrawing the companion proposed rule is published in the proposed rule section of this Federal Register.

FOR FURTHER INFORMATION CONTACT: Jayne M. McCausland, Office of Nuclear Material Safety and Safeguards, U.S. Nuclear Regulatory Commission, Washington, DC 20555, telephone (301) 415-6219 (e-mail: jmm2@nrc.gov).

SUPPLEMENTARY INFORMATION: On May 25, 2005 (70 FR 29931), the NRC published in the Federal Register a direct final rule amending its regulations in 10 CFR 72.214 to revise the Standardized NUHOMS® System listing within the “List of Approved Spent Fuel Storage Casks” to include Amendment No. 8 to the CoC. Amendment No. 8 modifies the present cask system by adding a new spent fuel storage and transfer system, designated the NUHOMS®-24PTH System. The direct final rule was to become effective on August 8, 2005. The NRC also concurrently published a companion proposed rule on May 25, 2005 (70 FR 30015).

The NRC has become aware of changes in the TS associated with this CoC; therefore, the NRC is withdrawing the direct final rule. The NRC will publish a direct final rule, and its companion proposed rule, after the needed revisions to the TS are made.

Dated at Rockville, Maryland, this 6th day of July, 2005.
For the Nuclear Regulatory Commission.
Martin J. Virgilio,
Acting Executive Director for Operations.

[FR Doc. 05-13933 Filed 7-14-05; 8:45 am]

BILLING CODE 7590-01-P